DEPARTMENT OF THE INTERIOR

Bureau of Reclamation

Yakima River Basin Water Storage Feasibility Study; Benton, Yakima, and Kittitas Counties, Washington INT-FES 08-65

AGENCY: Bureau of Reclamation, Interior.

ACTION: Notice of Availability of the Final Planning Report and Environmental Impact Statement.

SUMMARY: Pursuant to section 102(2)(C) of the National Environmental Policy Act (NEPA) of 1969, as amended, the Bureau of Reclamation (Reclamation) has prepared a combined Final Planning Report and Environmental Impact Statement (Final PR/EIS) on the Yakima River Basin Water Storage Feasibility Study (Storage Study). The cooperating agencies on this study are the Washington Department of Ecology (Ecology), Yakima County, the U.S. Department of the Army: Yakima Training Center and the Seattle District of the U.S. Corps of Engineers, and the U.S. Department of Energy: Office of River Protection.

The purpose of the Storage Study is to evaluate alternatives that would create additional water storage for the Yakima River Basin and assess their potential to supply the water needed for ecosystem aquatic habitat, basin-wide agriculture, and municipal demands. The need for the study is based on the existing finite water supply and limited storage capability of the Yakima River Basin in low water years. This finite supply and limited storage capacity do not meet the water supply demands in all years and result in significant adverse impact to the Yakima River Basin's economy, which is agriculture-based, and to the basin's aquatic habitat, specifically, anadromous fisheries. The study seeks to identify means of increasing water storage available, including storage of Columbia River water, for purposes of improving anadromous fish habitat and meeting irrigation and municipal water supply needs.

DATES: Written comments on the Final PR/EIS will be accepted through February 2, 2009.

ADDRESSES: Written comments on the Final PR/EIS should be addressed to the Bureau of Reclamation, Upper Columbia Area Office, Attention: David Kaumheimer, Environmental Programs Manager, 1917 Marsh Road, Yakima, Washington 98901-2058. Comments may also be submitted electronically to storagestudy@pn.usbr.gov. Requests for paper or CD copies of the Final PR/EIS may be made to (509) 575-5848, ext. 612.

See the SUPPLEMENTARY INFORMATION section on public review for locations where copies of the Final PR/EIS are available for public review. Information on this project can also be found at http://www.usbr.gov/pn/programs/storage_study/index.html.

FOR FURTHER INFORMATION: Contact David Kaumheimer, Environmental Programs Manager, Telephone: (509) 575-5848, extension 232.

SUPPLEMENTARY INFORMATION:

Background Information

Reclamation has undertaken this study to explore ways to augment water supplies in the Yakima River Basin for the benefit of anadromous fish, irrigated agriculture, and municipal water supply under the authority of Public Law 108-7, Title II, Section 214 which was passed by Congress on February 20, 2003. Public Law 108-7 states:

The Secretary of the Interior, acting through the Bureau of Reclamation, shall conduct a feasibility study of options for additional water storage in the Yakima River Basin, Washington, with emphasis on the feasibility of storage of Columbia River water in the potential Black Rock Reservoir and the benefit of additional storage to endangered and threatened fish, irrigated agriculture, and municipal water supply. There are authorized to be appropriated such sums as may be necessary to carry out this Act.

Ecology was a joint lead with Reclamation in the preparation of the Draft PR/EIS, in order to meet compliance under the State Environmental Policy Act (SEPA). However, they elected to become a cooperating agency on the Final PR/EIS as they believe they may not have fulfilled their requirements under Washington State law to identify and evaluate all reasonable water supply alternatives. Comments received on the Draft PR/EIS suggested that all reasonable water supply alternatives could not be adequately evaluated without considering fish habitat and fish passage needs. Ecology is proceeding with a separate evaluation of water supply and management alternatives. Ecology continues as a cooperating agency in this study which evaluates storage options per Public Law 108-7.

In addition to the No Action Alternative, this jointly prepared Final PR/EIS analyzes three storage alternatives, referred to as the Joint Alternatives, which Reclamation and Ecology are considering as part of the Storage Study. These include Black Rock, Wymer Dam and Reservoir, and Wymer Dam plus Yakima River Pump Exchange Alternatives. The No Action Alternative is identified as the Preferred Alternative in the Final PR/EIS.

Public Review

Because additional information about mitigation of seepage from Black Rock Reservoir is contained in the Final PR/EIS, a 45 day review period is being provided so that this new information can be reviewed. Changes to the Final PR/EIS are highlighted for ease of review. Responses to comments about the new information will be contained in the Record of Decision which will be issued following the review period. If you wish to comment on this Final PR/EIS, mail us your comments by February 2, 2009 as indicated under the ADDRESSES section.

Copies of the Final PR/EIS are available for public review at the following locations:

• Bureau of Reclamation, U.S. Department of the Interior, Main Library, Room 1151, 1849 C Street NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Kennewick City Library, 1620 S. Union St., Kennewick, Washington 99338.

• Pasco City Library, 1320 W. Hopkins, Pasco, Washington 99301.

• Richland City Library, 955 Northgate Drive, Richland, Washington 99352.

• Yakima Valley Regional Library, 102 N. 3 rd St., Yakima, Washington 98901.

• Washington State Library, 6880 Capitol Blvd. SW., Olympia, Washington 98504.

Public Disclosure

Before including your name, address, phone number, e-mail address, or other personal identifying information in your comment, you should be aware that your entire comment, including your personal identifying information, may be made publicly available at any time. While you can ask us in your comment to withhold your personal identifying information from public review, we cannot guarantee that we will be able to do so.

J. William McDonald,
Regional Director, Pacific Northwest Region.

[FR Doc. E8-30642 Filed 12-23-08; 8:45 am]

BILLING CODE 4310-MN-P